DEPARTMENT OF COMMERCE

National Oceanic and Atmospheric Administration

Agency Information Collection Activities; Submission to the Office of Management and Budget (OMB) for Review and Approval; Comment Request; Highly Migratory Species Dealer Reporting Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 28, 2025, during a 60-day comment period. This notice allows for an additional 30 days for public comments.

Agency: National Oceanic and Atmospheric Administration, Commerce.

Title: Highly Migratory Species Dealer Reporting Family of Forms.

OMB Control Number: 0648-0040.

Form Number(s): None.

Type of Request: Regular submission (revision and extension of an existing collection).

Number of Respondents: 2,141.

Average Hours per Response: 5 minutes each for catch document, statistical document, and re-export certificate; 15 minutes for catch document/statistical document/re-export certificate validation by government official; 120 minutes for authorization of non-governmental catch document/statistical document/re-export certificate validation; 2 minutes for daily Atlantic bluefin tuna landing reports; 3 minutes for daily Atlantic bluefin tuna landing reports from pelagic longline and purse seine vessels; 1 minute for Atlantic bluefin tuna tagging; 15 minutes for biweekly electronic Atlantic bluefin tuna dealer landing reports; 15 minutes for HMS international trade biweekly electronic reports; 15 minutes for weekly electronic HMS dealer landing reports (e-dealer); 30 minutes for weekly electronic HMS dealer landing reports using the file upload method (e-dealer); 5 minutes for negative weekly electronic HMS dealer landing reports (e-dealer); 15 minutes for voluntary fishing vessel and catch forms; 2 minutes for provision of HMS dealer email address.

Total Annual Burden Hours: 6,863 hours.

Needs and Uses: This is a request for a revision and extension of an existing information collection, HMS Dealer Family of Forms (0648-0040). This information collection covers reports from seafood dealers regarding purchases, sales, imports, exports, or re-exports of Atlantic highly migratory species (HMS), including federally managed bigeye, albacore, yellowfin, and skipjack (BAYS) tunas, Bluefin tuna (BFT), sharks, and swordfish (SWO). Domestic catch/landing data are necessary to effectively manage domestic fisheries. This information, consistent with the stated purpose of Executive Order (E.O.) 14276 of ensuring the integrity of the seafood supply chain, is used to monitor quotas, estimate fishing mortality, and identify the geographic and temporal distribution of fish and fisheries. The International Commission requires international trade-tracking programs for the Conservation of Atlantic Tunas (ICCAT). As part of this revision, the process for collecting email addresses from new HMS dealers has been updated. Previously, new HMS dealers were asked to submit their email addresses via email or phone. However, it is now a standard part of the annual dealer permit application process to collect email addresses. Consequently, there is no longer a need for new HMS dealers to provide their emails separately. Therefore, the burden estimates associated with collecting email addresses are no longer applicable for this ICR. The overall goal of these trade-tracking programs is to reduce illegal, unreported, and unregulated (IUU) fishing for the covered species and improve the management of associated fisheries. This goal aligns with the policies outlined in Executive Orders (E.O.) 14276, which seeks to combat IUU fishing and protect U.S. seafood markets from unfair trade practices, and E.O. 14303, which ensures that federal decisions are based on the most credible, reliable, and impartial data available.

Affected Public: Business or other for-profit organizations.

Frequency: Daily and biweekly for bluefin tuna dealer reports; weekly for swordfish, sharks, and BAYS tuna dealer reports and negative reports; biweekly for trade reports; and as needed for submission of non-governmental validation authorizations and validation of catch and statistical reports and re-export certifications.

Respondent's Obligation: Mandatory.

Legal Authority: Magnuson-Stevens Fishery Conservation and Management Act (16 U.S.C. 1801 et seq.), and the Atlantic Tunas Convention Act of 1975 (16 U.S.C. 971 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0040.

Sheleen Dumas,
Departmental PRA Compliance Officer, Office of the Under Secretary for Economic Affairs, Commerce Department.

[FR Doc. 2025-22170 Filed 12-5-25; 8:45 am]

BILLING CODE 3510-22-P